DEPARTMENT OF TRANSPORTATION

Federal Aviation Administration

Notice of Intent To Rule on Request To Release Airport Property at the Dallas/Fort Worth International Airport, DFW, Texas

AGENCY: Federal Aviation Administration (FAA), DOT.

ACTION: Notice of request to release airport property.

SUMMARY: The FAA proposes to rule and invite public comment on the release of land at the Dallas/Fort Worth International Airport under the provisions of Section 125 of the Wendell H. Ford Aviation Investment Reform Act for the 21st Century (AIR 21).

DATES: Comments must be received on or before (from 30 days of the posting of this Federal Register Notice).

ADDRESSES: Comments on this application may be mailed or delivered to the FAA at the following address: Mr. Ben Guttery, Manager, Federal Aviation Administration, Southwest Region, Airports Division, Texas Airports District Office, ASW-650, 10101 Hillwood Parkway, Fort Worth, Texas 76177.

In addition, one copy of any comments submitted to the FAA must be mailed or delivered to the at the following address: Mr. Sean Donohue, Chief Executive Officer, Dallas/Fort Worth International Airport, Executive Office, P.O. Box 619428, DFW Airport, Texas 75261.

FOR FURTHER INFORMATION CONTACT: Mr. Steven Cooks, Program Manager, Federal Aviation Administration, Texas Airports District Office, ASW-650, 10101 Hillwood Parkway, Fort Worth, TX 76177, Telephone: (817) 222-5608, email: Steven.Cooks@faa.gov, fax: (817) 222-5989.

The request to release property may be reviewed in person at this same location.

SUPPLEMENTARY INFORMATION: The FAA invites public comment on the request to release property at the Dallas/Fort Worth International Airport under the provisions of the AIR 21.

The following is a brief overview of the request:

The Dallas/Fort Worth International Airport requests the release of 39.737 acres of non-aeronautical airport property for permanent easement to the Fort Worth Transportation Autority. The permanent and temporary easements to be released will enable TRA to construct the Interceptor line which is approximately 9,850 linear feet and continue to maintain the Interceptor in the future and revuenes shall be used to further develop, operate and maintain DFW Airport.

Any person may inspect the request in person at the FAA office listed above under FOR FURTHER INFORMATION CONTACT.

In addition, any person may, upon request, inspect the application, notice and other documents relevant to the application in person at the: Dallas/Fort Worth International Airport, Telephone Number (972) 973-4646.

Issued in Fort Worth, Texas, on August 16, 2018.
Ignacio Flores,
Director, Airports Division.

[FR Doc. 2018-18764 Filed 8-28-18; 8:45 am]

BILLING CODE 4910-13-P